DEPARTMENT OF JUSTICE

Drug Enforcement Administration

Manufacturer of Controlled Substances; Notice of Application

Pursuant to § 1301.33(a) of title 21 of the Code of Federal Regulations (CFR), this is notice that on July 3, 2002, American Radiolabeled Chemicals, Inc., 11624 Bowling Green Drive, St. Louis, Missouri 63146, made application by renewal to the Drug Enforcement Administration (DEA) for registration as a bulk manufacturer of the basic classes of controlled substances listed below:

Drug | Schedule
Gamma hydroxybutyric acid (2010) | I
Lysergic acid diethylamide (7315) | I
Dimethyltryptamine (7435) | I
Dihydromorphine (9145) | I
Phencyclidine (7471) | II
Cocaine (9041) | II
Codeine (9050) | II
Hydromorphone (9150) | II
Oxycodone (9143) | II
Thebaine (9333) | II
Benzoylecgonine (9180) | II
Meperidine (9230) | II
Metazocine (9240) | II
Morphine (9300) | II
Oxymorphone (9652) | II

The firm plans to bulk manufacture small quantities of the listed controlled substances as radiolabeled compounds.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than April 7, 2003.

Dated: January 27, 2003.
Laura M. Nagel,
Deputy Assistant Administrator, Office of Diversion Control, Drug Enforcement Administration.

[FR Doc. 03-2916 Filed 2-5-03; 8:45 am]

BILLING CODE 4410-09-M